DEPARTMENT OF AGRICULTURE

Rural Business-Cooperative Service

Notice of Request for Reinstatement of Discontinued Collection

AGENCY: Rural Business-Cooperative Service, USDA.

ACTION: Proposed collection; comments requested.

SUMMARY: In accordance with the Paperwork Reduction Act of 1995, this notice announces the Rural Business-Cooperative Service's (RBCS) intention to request an extension for a currently approved information collection in support of the program for 7 CFR part 4290, subpart A, Rural Business Investment Companies Program.

DATES: Comments on this notice must be received by December 16, 2019.

FOR FURTHER INFORMATION CONTACT: Thomas P. Dickson, Rural Development Innovation Center—Regulatory Team 2, USDA, 1400 Independence Avenue SW, STOP 1522, Room 5164, South Building, Washington, DC 20250-1522. Telephone: (202) 690-4492. Email: Thomas.dickson@usda.gov.

SUPPLEMENTARY INFORMATION:

Title: Rural Business Investment Companies Program.

OMB Number: 0570-0051.

Type of Request: Reinstatement of a discontinued collection.

Abstract: RBCS administers the Rural Business Investment Program (RBIP). The primary objective of this program is to promote economic development and the creation of wealth and job opportunities in rural areas and to establish a developmental capital program, with the mission of addressing unmet equity investment needs of small enterprises located in rural areas. RBCS collects information from applicants to confirm eligibility for the program and to evaluate the quality of the applications.

Estimate of Burden: Public reporting burden for this collection is estimated to average 300 hours per response.

Estimated Number of Respondents: 2 per year.

Estimated Number of Responses per Respondent: 1.

Estimated Number of Responses: 241.

Estimated Total Annual Burden on Respondents: 904 hours.

Copies of this information collection can be obtained from Diane M. Berger, Rural Development Innovation Center—Regulatory Team, (715) 619-3124.

Comments

Comments are invited on: (a) Whether the proposed collection of information is necessary for the proper performance of the functions of the RBCS, including whether the information will have practical utility; (b) the accuracy of RBCS's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to: Thomas P. Dickson, Rural Development Innovation Center—Regulatory Team 2, USDA, 1400 Independence Avenue SW, STOP 1522, Room 5164, South Building, Washington, DC 20250-1522. Telephone: (202) 690-4492. Email: Thomas.dickson@usda.gov. All responses to this notice will be summarized and included in the request for OMB approval. All comments will become a matter of public record.

Bette Brand,
Administrator, Rural Business-Cooperative Service.

[FR Doc. 2019-22622 Filed 10-16-19; 8:45 am]

BILLING CODE P